DEPARTMENT OF JUSTICE

Antitrust Division

Notice Pursuant to the National Cooperative Research and Production Act of 1993—Vehicle to Infrastructure (V2I) Consortium

Notice is hereby given that, on December 3, 2014, pursuant to section 6(a) of the National Cooperative Research and Production Act of 1993, 15 U.S.C. 4301 et seq. (“the Act”), Vehicle to Infrastructure (V2I) Consortium (“V2I Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Chrysler Group LLC, Auburn Hills, MI; Ford Motor Company—Research and Innovation Center, Dearborn, MI; General Motors Company—Research and Development Center, Warren, MI; Honda R&D Americas, Inc., Southfield, MI; Hyundai-Kia America Technical Center, Inc., Superior Township, MI; Mazda Motor of America, Inc., Irvine, CA; Mercedes-Benz Research & Development North America, Inc., Sunnyvale, CA; Nissan Technical Center North America Inc., Farmington Hills, MI; Fuji Heavy Industries USA, Inc., Subaru, Cherry Hill, NJ; Volkswagen/Audi of America, Auburn Hills, MI; and Volvo Group North America, Costa Mesa, CA.

The general area of V2I Consortium's planned activity is to engage in a collaborative effort in order to gain further knowledge and understanding of connected vehicle interactions and/or applications for vehicles that are intended to transform surface transportation safety, mobility, and environmental performance through a connected vehicle environment.

Patricia A. Brink,
Director of Civil Enforcement, Antitrust Division.

[FR Doc. 2014-30673 Filed 12-30-14; 8:45 am]

BILLING CODE P